DEPARTMENT OF COMMERCE

National Oceanic and Atmospheric Administration

[I.D. 041900B]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) and its Comprehensive Management Committee, Law Enforcement Committee, Information & Education Committee, Habitat Committee, Large Pelagics Committee, Executive Committee, and Demersal Committee as a Council Committee of the Whole together with the Atlantic States Marine Fisheries Commission's (ASMFC) Summer Flounder, Scup, and Black Sea Bass Board, will hold a public meeting.

DATES: The meetings will be held on Tuesday, May 9, 2000 to Thursday, May 11, 2000. See SUPPLEMENTARY INFORMATION for specific dates and times.

ADDRESSES: These meetings will be held at the Sheraton Inn, N. duPont Highway, Dover, DE; telephone: 302-678-8500.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, May 9, 2000, from 9:00 a.m. until noon, the Comprehensive Management Committee will meet.

The Law Enforcement Committee will meet from 10:00 a.m. until 11:00 a.m.

The Information & Education Committee will meet from 11:00 a.m. until noon.

The Habitat Committee will meet from 1:00-5:00 p.m.

On Wednesday, May 10, 2000, from 8:00-9:00 a.m., the Large Pelagics Committee will meet.

The Executive Committee will meet from 9:00-10:00 a.m.

Council convenes at 10:00 a.m. and meets with the Atlantic States Marine Fisheries Commission's Summer Flounder, Scup, and Black Sea Bass Board from 10:00 a.m. until 5:00 p.m.

On Thursday, May 11, 2000, Council will be in session from 8:00 a.m. until 1:00 p.m.

Agenda items for this meeting are: Review and modify draft framework action regarding research quota set asides, review and rank Council research priorities, and discuss summer flounder workshop design. Review nomination process for quarterly Law Enforcement recognitions. Discuss use of teleconferencing in lieu of meetings, explore possibilities for future Information & Education presentations, and discuss ideas for the June Newsletter. Review and discuss Minerals Management Service Environmental Assessment for sand mining (NJ south to VA), discuss NMFS general concurrence process regarding Council Fishery Management Plans (FMPs), evaluate performance of NMFS success in use of elevation process with Corps of Engineers, and review Long Island Sound Environmental Impact Statement regarding ocean disposal sites. Develop recommendations regarding NMFS proposed division line for north-south Atlantic bluefin tuna angling categories. Discuss possible decoupling of joint Dogfish and Monkfish FMPs, and review composition of monitoring committees. Initiate action to amend the summer flounder section of the FMP by considering perpetuation of conservation equivalency (or not), and amend the scup section of the FMP by revising the process used for allocation of total allowable catch, discards, and total allowable levels, and by possibly re-establishing state-by-state quota allocations. Address scup recreational specifications for 2000 by determining a response to NMFS' rejection of 50 fish possession limit. The Council will also approve minutes from its March, 2000 meeting, review and comment on March meeting actions, and receive organizational reports from the NMFS Regional Administrator, NMFS Science Center Director, NOAA Office of General Counsel, U.S. Fish & Wildlife, Federal Enforcement units and the ASMFC. It will also receive Committee reports from the following committees: New England Council, South Atlantic Council, Monkfish, Comprehensive Management, Law Enforcement, Information & Education, Habitat, Large Pelagics, and Executive.

Although non-emergency issues not contained in this agenda may come before the Council for discussion, such issues may not be the subject of formal Council action during this meeting. Council action will be restricted to those issues specifically listed in this notice and any issues arising after publication of this notice that require emergency action under section 305(c) of the Magnuson-Stevens Act, provided the public has been notified of the Council's intent to take final actions to address such emergencies.

Request for Comment on Experimental Fishing Proposal

On May 11, 2000, the NMFS Northeast Regional Administrator will request oral public comment on a proposed experimental fishery that requires issuance of Experimental Fishing Permits (EFPs). The public may comment at that time, or may submit comments in writing. Written comments must be received by May 11, 2000 and should be submitted to: Patricia Kurkul, Regional Administrator, NMFS, Northeast Regional Office, 1 Blackburn Drive, Gloucester, MA 01930. Written comments may be submitted by facsimile (fax) to 978-281-9135, but may not be submitted via e-mail or the Internet. The proposal is summarized below.

The NMFS Northeast Fisheries Science Center (NEFSC) proposes to conduct cooperative research with industry that would require two vessels to conduct Illex Squid (Illex illecebrosus) surveys in the U.S. Exclusive Economic Zone on the edge of the continental shelf between northeastern Georges Bank and Cape Fear, North Carolina (approximately 35°-41° latitude). The purpose of the surveys is to calculate a pre-fishery abundance estimate and improve data input to stock assessments. Vessel operations would be under the supervision and control of NEFSC scientific personnel.

The stratified random sampling will occur at depths of 60-100 fathoms and 101-200 fathoms outside of all multispecies closed areas (Closed Area II and Nantucket Lightship Closed Area). Participating commercial Illex Squid vessels will employ standardized, scientific towing and sampling protocols. Towing will occur at 100 pre-determined stations at one half hour intervals and a tow speed of 3.5 knots. The codend mesh size of the liners will measure 1 inch (25.4 mm) diamond throughout the codend circumference for a total length of 30 feet.

The target species is Illex Squid, however some bycatch may be encountered. Any and all species landed for commercial purposes will be done so in accordance with the respective fishery requirements and landing restrictions. Illex length, weight and age data will be recorded along with other physical parameters (bottom temperature, depth, vessel speed and location data). Total catch weight information will be recorded for all other species retained. The survey will commence on or about May 20, 2000, and will continue through May 31, 2000. Timing is critical to survey success, which intends to capture the spring migration of Illex onto the continental shelf.

EFPs would be issued to two participating Federally permitted Illex Squid vessels to exempt them from the gear restrictions of the Atlantic Mackerel, Squid and Butterfish Fishery Management Plan.

Special Accommodations

These meetings are physically accessible to people with disabilities. Requests for sign language interpretation or other auxiliary aids should be directed to Joanna Davis at the Council (see ADDRESSES) at least 5 days prior to the meeting date.

Dated: April 20, 2000.
Richard W. Surdi,
Acting Director, Office of Sustainable Fisheries, National Marine Fisheries Service.

[FR Doc. 00-10303 Filed 4-24-00; 8:45 am]

BILLING CODE 3510-22-F